DEPARTMENT OF ENERGY

Federal Energy Regulatory Commission

[Project No. 10198-030]

Pelican Utility District, City of Pelican; Notice of Application for Partial Transfer of License, and Soliciting Comments and Motions To Intervene

On November 30, 2011, Pelican Utility District (transferor) and the City of Pelican (transferee) filed an application to transfer the license for the Pelican Hydroelectric Water Project No. 10198, located on Pelican Creek in the borough of Sitka, Alaska.

Applicants seek Commission approval to transfer the license for the Pelican Hydroelectric Water Project from the transferor to the transferee.

Applicants' Contact: Transferor: Shannon Heim, Dorsey & Whitney, LLP, 50 S. Sixth Street, Minneapolis, MN 55402, (612) 340-8899. Transferee: Mr. Donald W. Edwards, Attorney, Russell Wagg Gabbert & Budzinski, P.C., 510 L Street, Suite 300, Anchorage, AK 99501, (907) 258-1747.

FERC Contact: Patricia W. Gillis (202) 502-8735, patricia.gillis@ferc.gov.

Deadline for filing comments and motions to intervene: 30 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street, NE., Washington, DC 20426. More information about this project can be viewed or printed on the eLibrary link of Commission's Web site at http://www.ferc.gov/docs-filing/elibrary.asp. Enter the docket number (P-10198) in the docket number field to access the document. For assistance, call toll-free 1-(866) 208-3372.

Dated: January 11, 2012.
Kimberly D. Bose,
Secretary.

[FR Doc. 2012-904 Filed 1-18-12; 8:45 am]

BILLING CODE 6717-01-P